OFFICE OF PERSONNEL MANAGEMENT

Comment Request for Review of an Expiring Information Collection: Establishment Information Form, Wage Data Collection Form, Wage Data Collection Continuation Form DD 1918, DD 1919, and DD 1919C

AGENCY: Office of Personnel Management.

ACTION: Notice.

SUMMARY: Under the Paperwork Reduction Act of 1995 (Pub. L. 104-13, May 22, 1995), the Office of Personnel Management (OPM) seeks comments on its intention to request Office of Management and Budget clearance of three currently approved information collection forms. The Establishment Information Form, the Wage Data Collection Form, and the Wage Data Collection Continuation Form are wage survey forms developed by OPM for use by the Department of Defense to establish prevailing wage rates for Federal Wage System employees.

DATES: Submit comments on or before July 25, 2005.

ADDRESSES: Send or deliver comments to Donald J. Winstead, Deputy Associate Director for Pay and Performance Policy, Office of Personnel Management, Room 7H31, 1900 E Street, NW., Washington, DC 20415-8200; fax (202) 606-4264; or e-mail pay-performance-policy@opm.gov.

FOR FURTHER INFORMATION CONTACT: Madeline Gonzalez, (202) 606-2838; fax (202) 606-4264; or e-mail pay-performance-policy@opm.gov.

SUPPLEMENTARY INFORMATION: The Department of Defense contacts approximately 21,200 businesses annually to determine the level of wages paid by private enterprise establishments for representative jobs common to both private industry and the Federal Government. Each survey collection requires 1-4 hours of respondent burden, resulting in a total yearly burden of approximately 75,800 hours.

Comments are particularly invited on whether (1) this information is necessary for the proper performance of OPM functions, (2) it will have practical utility, (3) our estimate of the public burden of this collection of information is accurate and based on valid assumptions and methodology, and (4) ways in which we can minimize the burden of the collection of information on those who are to respond through the use of appropriate technological collection techniques or other forms of information technology.

For copies of this proposal, contact Mary Beth Smith-Toomey on (202) 606-8358, fax (202) 418-3251, or e-mail mbtoomey@opm.gov. Please include a mailing address with your request.

Office of Personnel Management.
Dan G. Blair,
Acting Director.

[FR Doc. 05-10273 Filed 5-23-05; 8:45 am]

BILLING CODE 6325-39-P